DEPARTMENT OF TRANSPORTATION

National Highway Traffic Safety Administration

49 CFR Part 565

[Docket No. NHTSA 2008-0022]

RIN 2127-AJ99

Vehicle Identification Number Requirements; Correction

AGENCY: National Highway Traffic Safety Administration (NHTSA), Department of Transportation (DOT).

ACTION: Final rule; correction.

SUMMARY: NHTSA published in the Federal Register of April 30, 2008, a final rule making certain changes in the 17-character vehicle identification number (VIN) system so that the system will remain viable for at least another 30 years. The regulatory text of the final rule contained several typographical errors, which this document corrects. In addition, this document makes clear that all motor vehicles identified by their manufacturer as model year (MY) 2009 or earlier vehicles must comply with the current Part 565 VIN requirements (which are set forth in subpart C of Part 565 of the final rule).

DATES: Effective Date: May 16, 2008.

FOR FURTHER INFORMATION CONTACT: For non-legal issues, you may contact Mr. Kenneth O. Hardie, Office of Crash Avoidance Standards (NVS-120), NHTSA, 1200 New Jersey Avenue, SE., Washington, DC 20590 (Telephone: 202-366-6987) (FAX: 202-366-7002).

For legal issues, you may contact Ms. Deirdre Fujita, Office of the Chief Counsel, NHTSA, 1200 New Jersey Avenue, SE., Washington, DC 20590 (Telephone: 202-366-2992) (FAX: 202-366-3820).

SUPPLEMENTARY INFORMATION: NHTSA published a final rule in the Federal Register of April 30, 2008, (73 FR 23367; NHTSA Docket 2008-0022) that made certain changes in the 17-character vehicle identification number (VIN) system so that there will be a sufficient number of unique manufacturer identifiers and VINs to use for at least another 30 years.¹ The regulatory text of the final rule contained several typographical errors which this document corrects. In addition, this document makes clear that all motor vehicles identified by their manufacturer as model year (MY) 2009 or earlier vehicles must comply with the current Part 565 VIN requirements (which are set forth in subpart C of Part 565 of the final rule).²

¹ The bulk of the changes in 49 CFR Part 565 applied to passenger cars and multipurpose passenger vehicles and trucks with a gross vehicle weight rating of 4536 kilograms (10,000 pounds) or less. There were relatively few changes to the regulation that impact the manufacturers of other vehicles. However, NHTSA urges all manufacturers to read the new regulation carefully to determine the specific changes that apply to them, such as the new requirement that the vehicle make now be communicated in and decipherable from the second section of the VIN as opposed to the first section of the VIN as previously required.

² In the Federal Register document at page 23376, middle column under the heading “Agency Analysis and Response” (which related to “14. Effective Date of the Rule”) there is a discussion relating to the effective date that focuses on the letters “A” and “B” in the 10th VIN position. The entire thrust of that discussion was intended to make clear that the application of the new regulation begins with the 2010 model year. However, while the agency intended that the application of the old regulation was to end with the completion of the 2009 model year, this application was not clearly stated. This correction addresses the lack of clarity in establishing the end of the old regulation.

Correction of Publication

In rule FR Doc. 08-1197 published on April 30, 2008, (73 FR 23367), make the following corrections.

1. On page 23379, in the second column, § 565.2 is correctly revised to read as follows:

§ 565.2 Application.

(a)(1) Except as provided in paragraph (a)(2) of this section, Subpart B of this part 565 applies to passenger cars, multipurpose passenger vehicles, trucks, buses, trailers (including trailer kits), incomplete vehicles, low speed vehicles, and motorcycles manufactured on or after October 27, 2008 whose VINs have a letter “A” or “B” in the 10th position, and to passenger cars, multipurpose passenger vehicles, trucks, buses, trailers (including trailer kits), incomplete vehicles, low speed vehicles, and motorcycles manufactured on or after April 30, 2009. Vehicles imported into the United States under 49 CFR 591.5(f), other than by the corporation responsible for the assembly of that vehicle or a subsidiary of such a corporation, are excluded from requirements of § 565.13(b), § 565.13(c), § 565.13(g), § 565.13(h), § 565.14 and § 565.15.

(2) All motor vehicles identified as model year 2009 or earlier vehicles by their manufacturer must comply with Subpart C of this part 565.

(b) Subpart B of this part 565 applies to vehicles manufactured on or after April 30, 2008 and before April 30, 2009, whose vehicle identification number (VIN) does not have a letter “A” or “B” in the 10th position of the VIN and that are not identified as model year 2009 or earlier vehicles by their manufacturer.

§ 565.11 [Corrected]

2. On page 23379, in the second column, in § 565.11, “572” in the first sentence of the paragraph is corrected to read “565,” and the phrase “that are not identified by their manufacturer as model year 2009 or earlier vehicles” is added to the end of the second sentence. In the third column of the same page, in § 565.11, “591.14(f)” is corrected to read “591.5(f).”

§ 565.21 [Corrected]

3. On page 23383, in the first column, in § 565.21, “572” in the first sentence of the paragraph is corrected to read “565.” In the third sentence, “591.24(f)” is corrected to read “591.5(f).”

Issued: May 8, 2008.
Stephen R. Kratzke,
Associate Administrator for Rulemaking.

[FR Doc. E8-10831 Filed 5-15-08; 8:45 am]

BILLING CODE 4910-59-P